DEPARTMENT OF LABOR

Employment and Training Administration

[TA-W-36,988 and NAFTA-3521]

Siebe Automotive, Robertshaw Division, Carthage, Tennessee; Dismissal of Application for Reconsideration

Pursuant to 29 CFR 90.18(C) an application for administrative reconsideration was filed with the Director of the Division of Trade Adjustment Assistance for workers at the Siebe Automotive, Robertshaw Division, Carthage, Tennessee. The application contained no new substantial information which would bear importantly on the Department's determination. Therefore, dismissal of the application was issued.

TA-W-36,988 and NAFTA-3521; Siebe Automotive, Robertshaw Division, Carthage, Tennessee (February 23, 2000)

Signed at Washington, DC, this 28th day of February, 2000.
Grant D. Beale,
Program Manager, Division of Trade Adjustment Assistance.

[FR Doc. 00-6378 Filed 3-14-00; 8:45 am]

BILLING CODE 4510-30-M